ENVIRONMENTAL PROTECTION AGENCY

[FRL-7403-1]

Agency Information Collection Activities: Submission for OMB Review; Comment Request; NPDES Storm Water Program Phase II

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NPDES Storm Water Program Phase II, OMB Control Number 2040-0211, expiration date October 31, 2002. The ICR describes the nature of the information collection and its expected burden and cost; where appropriate, it includes the actual data collection instrument.

DATES: Comments must be submitted on or before December 2, 2002.

ADDRESSES: Send comments, referencing EPA ICR No. 1820.03 and OMB Control No. 2040-0211, to the following addresses: Susan Auby, U.S. Environmental Protection Agency, Collection Strategies Division (Mail Code 2822T), 1200 Pennsylvania Avenue, NW, Washington, DC 20460-0001; and to Office of Information and Regulatory Affairs, Office of Management and Budget (OMB), Attention: Desk Officer for EPA, 725 17th Street, NW, Washington, DC 20503.

FOR FURTHER INFORMATION CONTACT: For a copy of the ICR contact Susan Auby at EPA by phone at (202) 566-1672, by E-Mail at auby.susan@epa.gov or download off the Internet at http://www.epa.gov/icr and refer to EPA ICR No. 1820.03. For technical questions about the ICR contact Jack Faulk at (202) 564-0768 or via E-Mail at faulk.jack@epa.gov.

SUPPLEMENTARY INFORMATION: Title: NPDES Storm Water Program Phase II, OMB Control Number 2040-0211, EPA ICR Number 1820.03, expiration date October 31, 2002. This is a request for extension of a currently approved collection.

Abstract: This ICR addresses Phase II of the NPDES storm water program. Under the Phase II rule, EPA regulates storm water discharges from construction sites with activities disturbing equal to or greater than one acre and less than five acres of land, and small municipal separate storm sewer systems (MS4s) located in Bureau of the Census-designated “urbanized areas.” Additional construction sites and small MS4s may be designated by the NPDES permitting authority. NPDES permits provide the mechanism for establishing appropriate controls on these Phase II sources. The Phase II rule also includes a provision that allows industrial facilities regulated under Phase I of the NPDES storm water program to obtain an exclusion from NPDES permitting requirements if they can certify to a condition of “no exposure” on their site.

Permits were not required for small construction sites and regulated small MS4s during the first three years of the program. The data collection effort during this first three-year period was limited to the submittal and review of no exposure certifications and some preliminary Agency work in developing specific program elements. A significant increase in burden for this ICR is the product of that fact.

After general permits for small MS4s and small construction sites are issued in December of 2002, NPDES permitting authorities, including the Water Permits Division of the EPA Office of Wastewater Management, intend to use the data contained in storm water permit applications, construction waiver certifications, storm water pollution prevention plans (SWPPPs), no exposure certifications, and reports to set appropriate permit conditions, track discharges covered by storm water permits, and assess permit compliance. Other organizations, including EPA's Office of Enforcement and Compliance Assurance environmental groups, will most likely use the same collected information to assess the regulated community's level of compliance and to measure the overall effectiveness of the NPDES storm water program.

It is expected that respondents will submit information in hard copy form. The information from them will be entered into a computer database and the original document will be filed. The information will be submitted by the respondents directly to each NPDES-authorized State or Territory, or to EPA in areas where EPA is the NPDES permitting authority. Plans are underway to allow electronic submission of much of the required information but these options are not included in the ICR. At the time those options become available, EPA will update this information collection to reflect a revised burden estimate.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on July 16, 2002; no comments were received.

Burden Statement: The annual public reporting and recordkeeping burden for this collection of information is estimated to average 21 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: NPDES permittees, including operators of small municipal separate storm sewer systems, small construction activity, and industrial facilities identified in 40 CFR 122.26(b)(14)(i)-(ix) and (xi) that qualify for a no exposure exemption.

Estimated Number of Respondents: 327,163.

Frequency of Response: Varies.

Estimated Total Annual Hour Burden: 3,873,197.

Estimated Total Annualized Capital, O&M Cost Burden: $0.

Send comments on the Agency's need for this information, the accuracy of the provided burden estimates, and any suggested methods for minimizing respondent burden, including through the use of automated collection techniques to the addresses listed above. Please refer to EPA ICR No. 1820.03 and OMB Control No. 2040-0211 in any correspondence.

Dated: October 22, 2002.
Doreen Sterling,
Acting Director, Collection Strategies Division.

[FR Doc. 02-27837 Filed 10-31-02; 8:45 am]

BILLING CODE 6560-50-P